FEDERAL COMMUNICATIONS COMMISSION

47 CFR Part 74

[MB Docket Nos. 03-185 and 22-261; FCC 23-25; FR ID 171698]

Establishing Rules for Digital Low Power Television and Television Translator Stations

AGENCY: Federal Communications Commission

ACTION: Final rule; announcement of effective date.

SUMMARY: In this document, the Federal Communications Commission (Commission) announces that the Office of Management and Budget (OMB) has approved, for a period of three years, the information collections adopted in the Report and Order in MB Docket Nos. 03-185, 22-261 FCC 23-25, Establishing Rules for Digital Low Power Television and Television Translator Stations, which stated that the Commission would publish a document in the Federal Register announcing the effective date of those rules.

DATES: The amendments to 47 CFR 74.703, 74.734, 74.735, 74.751, 74.763, and 74.784, published at 88 FR 30654 on May 12, 2023, are effective September 19, 2023.

FOR FURTHER INFORMATION CONTACT: Emily Harrison, Media Bureau, Video Division, at (202) 418-1665 or Emily.Harrison@fcc.gov. For information regarding the Paperwork Reduction Act (PRA) information collection requirements contained in the PRA, contact Cathy Williams, Office of Managing Director, at (202) 418-2918 or Cathy.Williams@fcc.gov.

SUPPLEMENTARY INFORMATION: This document announces that OMB approved the information collection requirements in 47 CFR 74.703, 74.734, 74.735, 74.751, 74.763, and 74.784, on September 7, 11, and 12, 2023. These rules were modified in the Report and Order in MB Docket Nos. 03-185, 22-261, FCC 23-25, Establishing Rules for Digital Low Power Television and Television Translator Stations, published at 88 FR 30654 on May 12, 2023. The Commission publishes this document as an announcement of the compliance date of the rules. Rule amendments adopted in the Report and Order which did not require OMB approval became effective on June 12, 2023.

Synopsis

As required by the Paperwork Reduction Act of 1995 (44 U.S.C. 3507), the FCC is notifying the public that it received final OMB approval on September 7, 11, and 12, 2023, for the information collection requirements contained in 47 CFR 74.703, 74.734, 74.735, 74.751, 74.763, and 74.784. Under 5 CFR part 1320, an agency may not conduct or sponsor a collection of information unless it displays a current, valid OMB Control Number.

No person shall be subject to any penalty for failing to comply with a collection of information subject to the Paperwork Reduction Act that does not display a current, valid OMB Control Number. The OMB Control Numbers for the information collection requirements in these rules are 3060-1311, 3060-0236, 3060-0248 and 3060-0250.

The foregoing notice is required by the Paperwork Reduction Act of 1995, Public Law 104-13, October 1, 1995, and 44 U.S.C. 3507.

The total annual reporting burdens and costs for the respondents are as follows:

OMB Control Number: 3060-0250.

OMB Approval Date: September 7, 2023.

OMB Expiration Date: September 30, 2026.

Title: Sections 73.1207, 74.784, and 74.1284, Rebroadcasts.

Form No.: N/A.

Respondents: Businesses or other for-profit entities, Not for-profit institutions and State, local or Tribal Governments.

Number of Respondents and Responses: 6,462 respondents and 11,012 responses.

Estimated Time per Response: 0.50 hours.

Frequency of Response: Recordkeeping requirement; on occasion reporting requirement; semi-annual reporting requirement; third party disclosure requirement.

Obligation to Respond: Required to obtain or retain benefits. The statutory authority for this information collection is contained in sections 154(i) and 325(a) of the Communications Act of 1934, as amended.

Total Annual Burden: 5,506 hours.

Annual Cost Burden: No cost.

Needs and Uses: The Commission adopted on April 17, 2023, the Report and Order (R&O), In the Matter of Amendment of Parts 73 and 74 of the Commission's Rules to Establish Rules for Digital Low Power Television and Television Translator Stations, Update of Parts 74 of the Commission's Rules Related to Low Power Television and Television Translator Stations, MB Docket Nos. 03-185 and 22-261, FCC 23-25 (88 FR 30654 on May 12, 2023). The R&O adopted the following revision to 47 CFR 74.784(b):

Section 74.784(b) states that a licensee of a low power television or TV translator station shall not rebroadcast the programs of any other TV broadcast station without obtaining prior consent of the station whose signals or programs are proposed to be retransmitted. Section 74.784(b) requires licensees of low power television and TV translator stations to notify the Commission when rebroadcasting programs or signals of another station. This notification shall include the call letters of each station rebroadcast. The licensee of the low power television or TV translator station shall certify that written consent has been obtained from the licensee of the station whose programs are retransmitted. This notification shall be provided by email to TVRebroadcast@fcc.gov, the Media Bureau, Video Division's email box.

The information collection requirements contained in 47 CFR 73.1207 and 74.1284 remain the same. They are as follows:

Section 73.1207 requires that licensees of broadcast stations obtain written permission from an originating station prior to retransmitting any program or any part thereof. A copy of the written consent must be kept in the station's files and made available to the FCC upon request. Section 73.1207 also specifies procedures that broadcast stations must follow when rebroadcasting time signals, weather bulletins, or other material from non-broadcast services.

Section 74.1284 requires that the licensee of a FM translator station obtain prior consent to rebroadcast programs of any broadcast station or other FM translator. The licensee of the FM translator station must notify the Commission of the call letters of each station rebroadcast and must certify that written consent has been received from the licensee of that station. Also, AM stations are allowed to use FM translator stations to rebroadcast the AM signal. FM translator stations are low power facilities licensed for the limited purpose of retransmitting the signals of either a full power radio station or another translator station. See 47 CFR 74.1201.

OMB Control Number: 3060-0236.

OMB Approval Date: September 11, 2023.

OMB Expiration Date: September 30, 2026.

Title: Section 74.703, Interference.

Form Number: N/A.

Respondents: Businesses or other for-profit entities, State, local or Tribal Governments and Not for-profit institutions.

Number of Respondents/Responses: 50 respondents and 50 responses.

Estimated Hours per Response: 2 hours.

Frequency of Response: On occasion reporting requirement.

Total Annual Burden: 100 hours.

Total Annual Cost: $100,000.

Obligation to Respond: Required to obtain or retain benefits. The statutory authority for this collection is contained in section 154(i) of the Communications Act of 1934, as amended.

Needs and Uses: The Commission adopted on April 17, 2023, the Report and Order (R&O), In the Matter of Amendment of Parts 73 and 74 of the Commission's Rules to Establish Rules for Digital Low Power Television and Television Translator Stations, Update of Parts 74 of the Commission's Rules Related to Low Power Television and Television Translator Stations, MB Docket Nos. 03-185 and 22-261, FCC 23-25. The R&O adopted the following revision to 47 CFR 74.703(h):

Section 74.703(h) requires in each instance where suspension of operation is required, the licensee shall submit a full report to the FCC via a Resumption of Operations notice in the Commission's Licensing and Management System (LMS) after operation is resumed, containing details of the nature of the interference, the source of the interfering signals, and the remedial steps taken to eliminate the interference.

The Commission is reinstating OMB control number 3060-0236 back into the Office of Management and Budget's (OMB) inventory. However, the Commission adopted on October 25, 2021, the Order (Order), In the Matter of Expanding the Economic and Innovation Opportunities of Spectrum Through Incentive Auction, GN Docket No. 12-268 (86 FR 66193, November 22, 2021). The Order adopted a number of changes, including removing 47 CFR 74.703(f) and (g). This means that collection 3060-0236 now only covers the information collection requirements covered under 47 CFR 74.703(h).

OMB Control Number: 3060-0248.

OMB Approval Date: September 12, 2023.

OMB Expiration Date: September 30, 2026.

Title: Section 74.751, Modification of Transmission Systems.

Form No.: N/A.

Respondents: Businesses or other for-profit entities, Not for-profit institutions and State, local or Tribal Governments.

Number of Respondents and Responses: 400 respondents and 400 responses.

Estimated Time per Response: 0.50 hours.

Frequency of Response: On occasion reporting requirement; Recordkeeping requirement.

Total Annual Burden: 200 hours.

Annual Cost Burden: No cost.

Needs and Uses: The Commission adopted on April 17, 2023, the Report and Order (R&O), In the Matter of Amendment of Parts 73 and 74 of the Commission's Rules to Establish Rules for Digital Low Power Television and Television Translator Stations, Update of Parts 74 of the Commission's Rules Related to Low Power Television and Television Translator Stations, MB Docket Nos. 03-185 and 22-261, FCC 23-25. The R&O adopted the following revisions to 47 CFR 74.751:

Section 74.751(a) requires licensees of low power TV or TV translator stations to send written notification to the FCC of equipment changes which may be made at licensee's discretion without the use of a formal application.

Section 74.751(b)(4) requires low power TV or TV translator stations to file an application in the Commission's Licensing and Management System (LMS) on FCC Form 2100, Schedule C, requesting authorization for all antenna relocations.

Section 74.751(c) provides that notwithstanding the requirement in 47 CFR 74.751(b)(4), a station may file in LMS a correction of geographic coordinates where the change is 3 seconds or fewer in latitude and/or 3 seconds or fewer in longitude, provided there is no physical change in location and no other licensed parameters are changed. An exhibit should be attached to the application(s) specifying it is a coordinate correction. Stations seeking to correct coordinates by less than 3 seconds of latitude and/or longitude may do so without paying a filing fee.

Section 74.751(d) requires that licensees of low power TV or TV translator stations place in the station records a certification that the installation of new or replacement transmitting equipment complies in all respects with the technical requirements of this section and the station authorization.

OMB Control Number: 3060-1311.

OMB Approval Date: September 7, 2023.

OMB Expiration Date: September 30, 2026.

Title: Sections 74.734, 74.735, and 74.763, Electronic Filings.

Form No.: N/A.

Respondents: Businesses or other for-profit entities, Not for-profit institutions and State, local or Tribal Governments.

Number of Respondents and Responses: 50 respondents and 250 responses.

Estimated Time per Response: 2 hours.

Frequency of Response: On occasion reporting requirement; Recordkeeping requirement.

Obligation to Respond: Required to obtain or retain benefits. The statutory authority for this collection is contained in section 154(i) of the Communications Act of 1934, as amended.

Total Annual Burden: 500 hours.

Annual Cost Burden: $250,000.

Needs and Uses: The Commission adopted on April 17, 2023, the Report and Order (R&O), In the Matter of Amendment of Parts 73 and 74 of the Commission's Rules to Establish Rules for Digital Low Power Television and Television Translator Stations, Update of Parts 74 of the Commission's Rules Related to Low Power Television and Television Translator Stations, MB Docket Nos. 03-185 and 22-261, FCC 23-25. The R&O adopted a number of revisions to the Commission's rules to specify electronic rather than paper submission in the following instances:

Section 74.734(a)(4) requires that a notification must be made with the Commission via a Change of Control Point Notice in the Commission's Licensing and Management System (LMS) providing the name, address, and telephone number of person(s) who may be called to secure suspension of operation of a transmitter promptly should the FCC deem such action necessary.

Section 74.735(c)(4) requires that all azimuth plane patterns be plotted in a PDF attachment to the application in LMS in a size sufficient to be easily viewed. Section 74.735(c)(6) requires that all azimuth plane patterns be plotted in a PDF attachment to the application in LMS in a size sufficient to be easily viewed. Section 74.735(c)(7) requires that if a matrix pattern is submitted in the LMS application form, similar tabulations must be provided as necessary in the form of a spreadsheet attachment to the application in LMS to accurately represent the pattern.

Section 74.763(b) provides that in the event that causes beyond the control of the low power or translator station licensee make it impossible to continue operating, the licensee may discontinue operation for a period of not more than 30 days without further authority from the FCC. Section 74.763(b) requires that no later than the tenth day of discontinued operation, notification must be sent electronically via a Suspension of Operations Notice filing in the Commission's LMS database. In the event normal operation is restored before the end of the 30 day period, the licensee must notify the FCC of the date that normal operations resumed by filing a Resumption of Operations Notice filing in LMS. Finally, § 74.763(b) requires that if causes beyond the control of the licensee make it impossible to comply within the allowed period, a licensee may make a request for Special Temporary Authority via LMS no later than the 30th day for such additional time as may be necessary.

Federal Communications Commission.
Katura Jackson,
Federal Register Liaison Officer.

[FR Doc. 2023-20172 Filed 9-18-23; 8:45 am]

BILLING CODE 6712-01-P